DEPARTMENT OF TRANSPORTATION

Office of the Secretary

Notice of Applications for Certificates of Public Convenience and Necessity and Foreign Air Carrier Permits Filed Under Subpart Q during the Week Ending September 22, 2000

The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7956.

Date Filed: September 20, 2000.

Due Date for Answers, Conforming Applications, or Motion to Modify Scope: October 11, 2000.

Description: Application of Southeast Airlines, Inc. (“Southeast”) pursuant to 49 U.S.C. 41102 and Subpart Q, applies for a certificate of public convenience and necessity authorizing Southeast to provide chartered foreign air transportation of persons, property and mail between any point or points in the United States, directly and via any intermediate point or points, and any point or points in the countries listed in Appendix A, and beyond to any point or points in third countries. Southeast also requests authority to integrate the service it provides under the certificate with its other authorized services, consistent with all applicable international agreements. Southeast also requests authority to add two additional DC-9 aircraft to its existing fleet of two.

Dorothy Y. Beard,
Federal Register Liaison.

[FR Doc. 00-28255 Filed 11-02-00; 8:45 am]

BILLING CODE 4910-62-P